DEPARTMENT OF ENERGY

Federal Energy Regulatory Commission

Combined Notice of Filings #1

Take notice that the Commission received the following electric rate filings:

Docket Numbers: ER10-3115-006.

Applicants: Waterside Power, LLC.

Description: Third Supplement to April 20, 2020 Triennial Market Power Update for the Northeast Region of Waterside Power, LLC.

Filed Date: 9/17/20.

Accession Number: 20200917-5141.

Comments Due: 5 p.m. ET 10/8/20.

Docket Numbers: ER10-3115-007.

Applicants: Waterside Power, LLC.

Description: Supplement to June 30, 2020 Updated Market Power Analysis of Waterside Power, LLC.

Filed Date: 9/17/20.

Accession Number: 20200917-5140.

Comments Due: 5 p.m. ET 10/8/20.

Docket Numbers: ER10-3117-008.

Applicants: Lea Power Partners, LLC.

Description: Third Supplement to April 20, 2020 Triennial Market Power Update for the Southwest Power Pool Region of Lea Power Partners, LLC.

Filed Date: 9/17/20.

Accession Number: 20200917-5144.

Comments Due: 5 p.m. ET 10/8/20.

Docket Numbers: ER13-445-009; ER11-4060-009; ER11-4061-009; ER14-2823-007; ER15-1170-005; ER15-1171-005; ER15-1172-005; ER15-1173-005.

Applicants: Badger Creek Limited, Bear Mountain Limited, Chalk Cliff Limited, Double C Generation Limited Partnership, High Sierra Limited, Kern Front Limited, Live Oak Limited, McKittrick Limited.

Description: Second Supplement to April 20, 2020 Triennial Market Power Update for the Southwest Power Pool Region of Badger Creek Limited, et al.

Filed Date: 9/17/20.

Accession Number: 20200917-5128.

Comments Due: 5 p.m. ET 10/8/20.

Docket Numbers: ER19-1955-004.

Applicants: Public Service Company of New Mexico.

Description: Compliance filing: Order No. 845 Compliance Filing to be effective 5/22/2019.

Filed Date: 9/18/20.

Accession Number: 20200918-5133.

Comments Due: 5 p.m. ET 10/9/20.

Docket Numbers: ER19-1958-003.

Applicants: PJM Interconnection, L.L.C.

Description: Compliance filing: Third Compliance filing per Commission's 5/21/20 order in Docket No. ER19-1958 to be effective 7/20/2020.

Filed Date: 9/18/20.

Accession Number: 20200918-5024.

Comments Due: 5 p.m. ET 10/9/20.

Docket Numbers: ER19-1959-002.

Applicants: Avista Corporation.

Description: Compliance filing: Avista Corp OATT Order 845/845A Compliance Filing to be effective 10/17/2020.

Filed Date: 9/18/20.

Accession Number: 20200918-5122.

Comments Due: 5 p.m. ET 10/9/20.

Docket Numbers: ER19-2745-002.

Applicants: New Creek Wind LLC.

Description: Report Filing: Refund Report Under Docket ER19-2745 to be effective N/A.

Filed Date: 9/18/20.

Accession Number: 20200918-5051.

Comments Due: 5 p.m. ET 10/9/20.

Docket Numbers: ER20-687-001.

Applicants: Tri-State Generation and Transmission Association, Inc.

Description: Compliance filing: Order Nos. 845 and 845-A Second Compliance Filing to be effective 2/25/2020.

Filed Date: 9/18/20.

Accession Number: 20200918-5132.

Comments Due: 5 p.m. ET 10/9/20.

Docket Numbers: ER20-1648-002.

Applicants: Inter-Power/AhlCon Partners, L.P.

Description: Notice of Change in Status of Inter-Power/AhlCon Partners, L.P.

Filed Date: 9/17/20.

Accession Number: 20200917-5184.

Comments Due: 5 p.m. ET 10/8/20.

Docket Numbers: ER20-2519-000.

Applicants: East Line Solar, LLC.

Description: Supplement to July 28, 2020 East Line Solar, LLC tariff filing.

Filed Date: 9/9/20.

Accession Number: 20200909-5179.

Comments Due: 5 p.m. ET 9/21/20.

Docket Numbers: ER20-2911-000.

Applicants: Appalachian Power Company.

Description: Tariff Cancellation: Notice of Cancellation AEPSC-Wolf Hills Energy Interconnection & Operation Agrmt to be effective 11/21/2020.

Filed Date: 9/17/20.

Accession Number: 20200917-5113.

Comments Due: 5 p.m. ET 10/8/20.

Docket Numbers: ER20-2912-000.

Applicants: American Transmission Systems, Incorporated, PJM Interconnection, L.L.C.

Description: § 205(d) Rate Filing: ATSI submits revised IA SA Nos. 3993 to be effective 11/18/2020.

Filed Date: 9/17/20.

Accession Number: 20200917-5127.

Comments Due: 5 p.m. ET 10/8/20.

Docket Numbers: ER20-2914-000.

Applicants: PJM Interconnection, L.L.C.

Description: Request for Waiver of Tariff Provisions, et al. of PJM Interconnection, L.L.C.

Filed Date: 9/17/20.

Accession Number: 20200917-5176.

Comments Due: 5 p.m. ET 9/22/20.

Docket Numbers: ER20-2915-000.

Applicants: NSTAR Electric Company.

Description: Tariff Cancellation: Cancellation of Vineyard Wind Design and Engineering Agreement to be effective 7/10/2020.

Filed Date: 9/18/20.

Accession Number: 20200918-5095.

Comments Due: 5 p.m. ET 10/9/20.

Docket Numbers: ER20-2916-000.

Applicants: Alabama Power Company.

Description: Tariff Cancellation: Bird Dog Solar LGIA Termination Filing to be effective 9/18/2020.

Filed Date: 9/18/20.

Accession Number: 20200918-5102.

Comments Due: 5 p.m. ET 10/9/20.

Docket Numbers: ER20-2917-000.

Applicants: Alabama Power Company.

Description: Tariff Cancellation: Bulldog Solar (Bulldog Solar I) LGIA Termination Filing to be effective 9/18/2020.

Filed Date: 9/18/20.

Accession Number: 20200918-5103.

Comments Due: 5 p.m. ET 10/9/20.

Docket Numbers: ER20-2918-000.

Applicants: Alabama Power Company.

Description: Tariff Cancellation: Sonny Solar LGIA Termination Filing to be effective 9/18/2020.

Filed Date: 9/18/20.

Accession Number: 20200918-5104.

Comments Due: 5 p.m. ET 10/9/20.

Docket Numbers: ER20-2919-000.

Applicants: Tri-State Generation and Transmission Association, Inc.

Description: Request for One-Time, Limited Waiver of Tariff Provision, et al. of Tri-State Generation and Transmission Association, Inc.

Filed Date: 9/18/20.

Accession Number: 20200918-5127.

Comments Due: 5 p.m. ET 10/9/20.

Docket Numbers: ER20-2920-000.

Applicants: Public Service Company of New Mexico.

Description: § 205(d) Rate Filing: OATT Revisions to Attachment A-1 to be effective 11/18/2020.

Filed Date: 9/18/20.

Accession Number: 20200918-5128.

Comments Due: 5 p.m. ET 10/9/20.

Docket Numbers: ER20-2921-000.

Applicants: Glidepath Ventures, LLC.

Description: Petition for Waiver, et al. of Glidepath Ventures, LLC.

Filed Date: 9/18/20.

Accession Number: 20200918-5129.

Comments Due: 5 p.m. ET 10/2/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 18, 2020.
Kimberly D. Bose,
Secretary.

[FR Doc. 2020-21104 Filed 9-23-20; 8:45 am]

BILLING CODE 6717-01-P